DEPARTMENT OF ENERGY

Federal Energy Regulatory Commission

Combined Notice of Filings #1

May 27, 2009.

Take notice that the Commission has received the following Natural Gas Pipeline Rate and Refund Report filings:

Docket Numbers: RP09-602-000.

Applicants: Kinder Morgan Interstate Gas Trans. LLC.

Description: Kinder Morgan Interstate Gas Transmission LLC submits notice to Mid-America Agri Products/Horizon LLC on 5/19/09 that firm transportation service agreement 551784, relating to service under KMIGT Rate Schedule FT etc.

Filed Date: 05/19/2009.

Accession Number: 20090520-0092.

Comment Date: 5 p.m. Eastern Time on Monday, June 01, 2009.

Docket Numbers: RP09-603-000.

Applicants: Centra Pipelines Minnesota.

Description: Centra Pipelines Minnesota Inc submits Fifth Revised Sheet 35 the Index of Shippers, for which Centra Minnesota requests an effective date of 6/1/09.

Filed Date: 05/20/2009.

Accession Number: 20090520-0098.

Comment Date: 5 p.m. Eastern Time on Monday, June 01, 2009.

Docket Numbers: RP09-604-000.

Applicants: Cameron Interstate Pipeline, LLC.

Description: Cameron Interstate Pipeline, LLC submits a Negotiated Rate Agreement with Eni USA Gas Marketing, LLC for which Cameron Interstate requests an effective date 6/30/09.

Filed Date: 05/20/2009.

Accession Number: 20090520-0097.

Comment Date: 5 p.m. Eastern Time on Monday, June 01, 2009.

Docket Numbers: RP09-605-000.

Applicants: El Paso Natural Gas Company.

Description: Penalty Crediting Report for calendar year 2008 of El Paso Natural Gas Company.

Filed Date: 05/20/2009.

Accession Number: 20090520-5093.

Comment Date: 5 p.m. Eastern Time on Monday, June 01, 2009.

Docket Numbers: RP09-606-000.

Applicants: Vector Pipeline L.P.

Description: Vector Pipeline, LP submits Substitute Sixth Revised Sheet 159 et al. to FERC Gas Tariff, Original Volume 1, to be effective 8/1/09.

Filed Date: 05/21/2009.

Accession Number: 20090521-0051.

Comment Date: 5 p.m. Eastern Time on Tuesday, June 02, 2009.

Docket Numbers: RP09-607-000.

Applicants: Northwest Pipeline GP.

Description: Northwest Pipeline GP submits First Revised Sheet 201 et al. to its FERC Gas Tariff, Fourth Revised Volume 1.

Filed Date: 05/21/2009.

Accession Number: 20090521-0050.

Comment Date: 5 p.m. Eastern Time on Tuesday, June 02, 2009.

Docket Numbers: RP09-608-000.

Applicants: North Baja Pipeline, LLC.

Description: North Baja Pipeline, LLC submits Second Revised Sheet No. 117 et al. to FERC Gas Tariff, Original Volume No. 1.

Filed Date: 05/22/2009.

Accession Number: 20090522-0103.

Comment Date: 5 p.m. Eastern Time on Wednesday, June 03, 2009.

Docket Numbers: RP09-609-000.

Applicants: Panhandle Eastern Pipe Line Company, LP.

Description: Panhandle Eastern Pipe Line Company, LP submits Twenty-Third Revised Sheet 4 to its FERC Gas Tariff, Third Revised Volume 1 to be effective 6/1/09.

Filed Date: 05/22/2009.

Accession Number: 20090522-0102.

Comment Date: 5 p.m. Eastern Time on Wednesday, June 03, 2009.

Docket Numbers: RP09-611-000.

Applicants: Carolina Gas Transmission Corporation.

Description: Carolina Gas Transmission Corp submits Second Revised Sheet 212 to FERC Gas Tariff, Original Volume 1, effective 8/1/09 under RP09-611.

Filed Date: 05/26/2009.

Accession Number: 20090527-0026.

Comment Date: 5 p.m. Eastern Time on Monday, June 08, 2009.

Docket Numbers: RP09-612-000.

Applicants: CenterPoint Energy-Mississippi River Transmission Corporation.

Description: CenterPoint Energy-Mississippi River Transmission Corporation submits Second Revised Sheet 0 et al. to FERC Gas Tariff, Third Revised Volume 1.

Filed Date: 05/26/2009.

Accession Number: 20090527-0025.

Comment Date: 5 p.m. Eastern Time on Monday, June 08, 2009.

Any person desiring to intervene or to protest in any of the above proceedings must file in accordance with Rules 211 and 214 of the Commission's Rules of Practice and Procedure (18 CFR 385.211 and § 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. E9-12737 Filed 6-1-09; 8:45 am]

BILLING CODE 6717-01-P